NATIONAL AERONAUTICS AND SPACE ADMINISTRATION

[Notice: (14-068)]

NASA Advisory Council; Technology, Innovation, and Engineering Committee; Meeting

AGENCY: National Aeronautics and Space Administration.

ACTION: Notice of meeting.

SUMMARY: The National Aeronautics and Space Administration (NASA) announces a meeting of the Technology, Innovation and Engineering Committee of the NASA Advisory Council (NAC).

DATES: Monday, July 28, 2014, from 12:30 p.m. to 5 p.m.; and Tuesday, July 29, 2014, from 8 a.m. to 2:30 p.m., Local Time.

ADDRESSES: NASA Langley Research Center, (LaRC), 5 Langley Boulevard, Building 2101, Room 205A, Hampton, VA 23681. NOTE: Meeting location in Building 2101 will change to Room 105A and 105B from 11 a.m. to 12 p.m. on July 29.

FOR FURTHER INFORMATION CONTACT: Mr. Mike Green, Space Technology Mission Directorate, NASA Headquarters, Washington, DC 20546, (202) 358-4710, or g.m.green@nasa.gov.

SUPPLEMENTARY INFORMATION: The meeting will be open to the public up to the capacity of the room. This meeting is also available telephonically and by WebEx. Any interested person may call the USA toll free conference call number 866-804-6184, passcode 6428446, to participate in this meeting by telephone. The WebEx link is https://nasa.webex.com/, the meeting number is 994 675 076, and the password is Technology14*.

The agenda for the meeting includes the following topics:

—Office of the Chief Technologist Update

—Overview of Market Study on Small Spacecraft Activities

—Space Technology Mission Directorate Update

—Briefing and Overview of NASA's STMD Knowledge Capture Planning

—Office of the Chief Engineer Update

—Update on Progress of NASA's Game Changing Development Program

—Update on NASA's Entry, Descent and Landing Projects

—A joint meeting/discussion with the NAC Science Committee to discuss a previous meeting recommendation regarding infusing new technologies into NASA science missions.

Attendees will be requested to sign a register and to comply with NASA Langley Research Center security requirements, including the presentation of a valid picture ID before receiving access to NASA Langley Research Center. Foreign nationals attending this meeting will be required to provide a copy of their passport and visa in addition to providing the following information no less than 10 working days prior to the meeting: Full name; gender; date/place of birth; citizenship; visa/green card information (number, type, expiration date); passport information (number, country, telephone); employer/affiliation information (name of institution, address, country, telephone); title/position of attendee. To expedite admittance, attendees with U.S. citizenship and Permanent Residents (green card holders) can provide identifying information 3 working days in advance by contacting Ms. Cheryl Cleghorn at cheryl.w.cleghorn@nasa.gov or 757-864-2497.

It is imperative that the meeting be held on this date to accommodate the scheduling priorities of the key participants.

Patricia D. Rausch,
Advisory Committee Management Officer, National Aeronautics and Space Administration.

[FR Doc. 2014-16015 Filed 7-8-14; 8:45 am]

BILLING CODE 7510-13-P